DEPARTMENT OF AGRICULTURE

Forest Service

Lincoln National Forest; Lincoln, Otero, Eddy and Chaves Counties, New Mexico; Revision of the Land Management Plan for the Lincoln National Forest

AGENCY: Forest Service, USDA.

ACTION: Notice of intent to prepare an environmental impact statement.

SUMMARY: The USDA Forest Service is revising the Land Management Plan (Forest Plan) for the Lincoln National Forest and preparing an environmental impact statement (EIS). This notice describes the documents available for review and how to obtain them; summarizes the needs for change to the existing Forest Plan; identifies where a Preliminary Draft Forest Plan (detailed proposed action) can be obtained; provides information concerning public participation and collaboration, including the process for submitting comments; provides an estimated schedule for the planning process, including the time available for comments, and includes the names and addresses of agency contacts who can provide additional information.

DATES: Comments concerning the needs for change and the Proposed Action provided in this notice will be most useful in the development of the revised plan and draft EIS if received by July 31, 2019. The draft revised Forest Plan and draft EIS are expected summer 2020, and the final revised Forest Plan and final EIS are expected late 2021.

ADDRESSES: Send written comments to Lincoln National Forest, Attn: Forest Plan, 3463 Las Palomas Rd., Alamogordo, New Mexico 88310 or via email to: lnf_fpr_comments@fs.fed.us.

FOR FURTHER INFORMATION CONTACT: Diane Prather, Forest Planner, Lincoln National Forest, 3463 Las Palomas Road, Alamogordo, New Mexico 88310, 575-434-7200.

SUPPLEMENTARY INFORMATION:

Nature of the Decision To Be Made

The Lincoln National Forest is preparing an EIS to revise the existing Forest Plan. The EIS process is meant to inform the Forest Supervisor so he can decide which alternative best maintains and restores National Forest System terrestrial and aquatic resources while providing ecosystem services and multiple uses, as required by the National Forest Management Act and the Multiple Use Sustained Yield Act.

The revised Forest Plan will describe the strategic intent of managing the Forest for the next 10 to 15 years and will address the identified needs for change to the existing land management plans. The revised Forest Plan will provide management direction in the form of desired conditions, objectives, standards, guidelines, and suitability of lands. It will identify delineation of new management areas across the Forest; identify the timber sale program quantity; make recommendations to Congress for Wilderness designation; and list rivers and streams eligible for inclusion in the National Wild and Scenic Rivers System. The revised forest plan will also provide a description of the plan area's distinctive roles and contributions within the broader landscape, identify watersheds that are a priority for maintenance or restoration, include a monitoring program, and contain information reflecting expected possible actions over the life of the plan.

It is also important to identify the types of decisions that will not be made within the revised Forest Plan. The revised Forest Plan will represent decisions that are strategic in nature, but will not make site-specific project decisions and will not dictate day-to-day administrative activities needed to carry on the Forest Service's internal operations. The authorization of project level activities will be based on the guidance/direction contained in the revised plan, but will occur through subsequent project specific National Environmental Policy Act (NEPA) analysis and decision-making.

The revised Forest Plan will provide broad, strategic guidance designed to supplement, not replace, overarching laws and regulations. Though strategic guidance will be provided, no decisions will be made regarding the management of individual roads or trails, such as those that might be associated with a Travel Management plan under 36 CFR part 212. Some issues (e.g., hunting regulations), although important, are beyond the authority or control of the National Forest System and will not be considered. No decision regarding oil and gas leasing availability will be made, though standards will be brought forward or developed that would serve as mitigations should an availability decision be necessary in the future.

Purpose and Need and Needs for Change

According to the National Forest Management Act, Forest Plans are to be revised on a 10 to 15 year cycle. The purpose and need for revising the current Forest Plan is (1) the Forest Plan is over 33 years old, (2) since the Forest Plan was approved in 1986, there have been changes in economic, social, and ecological conditions, new policies and priorities, and new information based on monitoring and scientific research, and (3) to address the preliminary identified needs for change to the existing Forest Plan, which is summarized below. Extensive public and employee involvement, along with science-based evaluations, have helped to identify the preliminary needs for change to the existing Forest Plan.

What follows is a summary of the preliminary identified needs for change. A more fully developed description of the preliminary needs for change, which has been organized into several resource and management topic sections, is available for review on the plan revision website at: https://www.fs.usda.gov/detail/lincoln/landmanagement/planning/?cid=STELPRD3814307.

The Lincoln National Forest has identified 21 focus areas that need to be considered and addressed through the plan revision process in order to provide sustainable resources, goods, and services. Overall, there is a need for plan direction that is strategic and identifies desired conditions with objectives for how resources should be managed; eliminates redundancies with existing laws, regulations and policy; removes requirements to prepare additional resource plans; and that incorporates the best available scientific information into all plan components. The following are the 21 focus areas that will be the focus of the need to change during plan revision.

Monitoring

• There is a need for monitoring plans that track progress toward desired conditions and allows for responsive adaptive management with available resources.

• There is a need for monitoring questions and associated indicators that look at the status of resources at appropriate scales.

Collaboration, Partnerships, and Relationships

• There is a need to include management approaches that will strengthen existing relationships, promote new relationships, and incorporate strategies that prioritize partnerships.

• There is a need for management approaches that promote seeking outside assistance in addition to working with partners and volunteers to manage resources and monitor activities.

Terrestrial Ecosystems

• There is a need to develop plan components that emphasize landscape-scale ecosystem restoration and resiliency through adaptive management strategies to changing environmental conditions and stressors.

• There is a need to include plan components that focus on addressing the impacts of nonnative invasive species on terrestrial and aquatic ecosystems.

• There is a need for plan components, including desired conditions and objectives, that recognize fire-adapted ecosystems, the role of fire on the landscape (including wilderness), and its use as a management tool, including planned and unplanned ignitions.

• There is need for plan direction that allows managers the flexibility to manage naturally ignited fires to meet resource objectives based on weather and site-specific conditions (for example, fuel conditions, topography, safety concerns, and values). These actions may include using prescribed fire, improving wildlife and range habitat, encouraging aspen regeneration, and improving watershed and overall forest health.

• There is a need to develop desired conditions (at multiple scales) for vegetation structure and composition to promote a characteristic diversity of seral states and species composition as well as meet management considerations for wildlife such as northern goshawk and Mexican spotted owl. This includes a suite of desired conditions for patch size, ecological status (composition), ground cover, coarse woody debris, and snags that characterize different ecological response units.

• There is a need to develop management objectives to meet desired conditions and monitoring criteria to measure effectiveness of management toward meeting desired conditions.

Riparian Ecosystems

• There is a need for plan components that identify appropriate riparian characteristics (e.g., biodiversity, connectivity, water availability) that promote functionality and resiliency while taking into account multiple stressors.

• There is a need to develop desired conditions for riparian areas including vegetation structure, ecological status (composition), ground cover, coarse woody debris and snags that characterize different riparian Ecological Response Units.

• There is a need for plan components that minimize ecological impacts of multiple uses in riparian areas.

• There is a need to develop more effective riparian plan monitoring criteria in order to better assess riparian conditions and trends.

Soil Resources

• There is a need for plan components that promote the maintenance and restoration of soil condition and function (e.g., hydrology, stability, and nutrient cycling) by limiting the amount of exposed bare soil and by restoring and maintaining sufficient vegetative cover, including downed woody material.

Watershed and Water Resources

• There is a need to include plan components to maintain or restore the integrity of aquatic ecosystems and watersheds.

• There is a need for plan components that improve hydrological function and condition of water-dependent system by maintaining and restoring upland and riparian vegetative cover and reducing erosion and sedimentation from disturbed sites (e.g., reclaim head cuts) where feasible.

• There is a need to develop plan components to ensure stream channels and floodplains are dynamic and resilient to disturbance.

• There is a need to develop more effective aquatic biotic monitoring items in order to better assess biological condition and trends.

At-Risk Species

• There is a need for plan components that support ecological conditions that contribute to the recovery and conservation of federally listed species (threatened and endangered), maintaining stable to increasing populations of the species of conservation concern, and maintaining common and abundant species.

• There is a need for plan components that will support documentation and establishment of baseline conditions for terrestrial and aquatic habitat linkages and connectivity for species migration and movement across the landscape.

Climate

• There is a need to include plan components that consider potential climate impacts or stressors (e.g., increases in storm events, uncharacteristic wildfire, drought, flooding, and other extreme weather) to ecosystems and natural resources.

Carbon Stocks

• There is a need to describe desired conditions for carbon storage and emissions, particularly as they relate to historic and current vegetation structure, including the potential for emissions from biomass removal, and prescribed and wild fires.

Air

• There is a need to describe desired conditions and objectives for air quality, incorporated by reference from applicable Federal and State Regulations (i.e. Clean Air Act) without duplicating or conflicting with those regulations.

Social and Economic Conditions and Multiple Uses

• There is a need for plan components that recognize the Lincoln National Forest's role in contributing to local economies (e.g., timber, grazing, and other multiple-use activities and products, etc.).

• There is a need for plan components that build stronger relationships with states, state and federal agencies, cities and counties, tribal governments, and the public, including, but not limited to, recreational and forest user groups, environmental groups, local communities, youth, vendors, and other users with cultural and historic ties to the forest for the management of resources such as water, timber and other forest products.

Rangeland Resources

• There is a need to add plan components for rangeland management that maintain or restore ecological integrity and productivity of rangelands.

Timber and Forest Products

• There is a need for plan components to ensure the sustainability and availability of forest products such as timber, firewood, and other special forest products for economic uses.

Water Resources

• There is a need for updating and developing plan components that provide for the management of sustainable water supply for multiple uses.

Fish, Wildlife, and Plant Resources

• There is a need for plan components to meet desired ecological conditions that allow a wide range of management practices to promote forest health, resiliency, and sustainability.

• There is a need to develop plan components that support ecological conditions of the various habitat types that contribute to the conservation of native plant and animal species for hunting, fishing, and wildlife viewing.

Cultural and Historic Resources

• There is a need for plan components to evaluate, stabilize, preserve, interpret, and protect historic and sensitive properties (e.g. archeological sites, historic structures, and traditional properties).

• There is a need for plan components to ensure the sustainability and availability of forest products such as timber, firewood, medicinal and ceremonial plants, edible plants and other special forest products for economic and cultural uses.

Recreation and Scenic Character

• There is a need for plan components to address changing trends in services, activities, and types of facilities desired by the public, while balancing those trends with other resource management such as soils and vegetation.

• There is a need for plan components to address illegal use and compliance to prevent resource damage.

• There is a need for management approaches to better address those areas of public concern with law enforcement to address user conflicts and resource damage.

• There is a need for plan components to reduce user conflicts (e.g. recreational shooting and hikers, equestrians, hikers, and bicyclists, and motorized and non-motorized users).

• There is a need for plan components to better integrate scenery management within all forest management (e.g. restoration, habitat diversity, timber management) to further positive outcomes for all resources.

Designated Areas

• There is a need to re-evaluate designated and proposed special areas (i.e., research natural areas, botanical areas, etc.), excluding Congressionally-designated areas as considerable time has passed and conditions may have changed.

• There is a need to conduct wilderness evaluations for the revised plan while taking into account existing uses of the areas being evaluated/recommended.

Infrastructure

• There is a need for plan components to address the long-term sustainability of infrastructure (e.g., trails, administrative and recreation facilities, range improvements, roads, etc.), maintenance, design, and improvement.

Land Ownership, Status, Use, and Access

• There is a need to develop plan components to manage special uses for the purpose of resource protection and public needs.

• There is a need to develop plan components related to the Forest Service land uses and adjustment program to provide access, resolve boundary inconsistency, create connectivity for wildlife, and facilitate management.

• There is a need for plan components that encourage the acquisition of public access and protection of existing public access.

• There is a need for plan components related to military uses of the Forest.

Energy Resources, Mineral Resources, and Geologic Hazards

• There is a need for plan components that address transmission corridors, non-renewable and renewable energy generation, including wind, solar, biomass, and geothermal, in order to protect natural resources, heritage and sacred sites, traditional tribal activities, caves and scenery.

• There is a need for plan components regarding the use of common variety salable mineral materials, such as commercial contracts, personal use, and free use permits, while protecting natural resources, heritage and sacred sites, traditional tribal activities, and scenery.

• There is need for plan components regarding locatable minerals such as commercial leasing, while protecting natural resources, heritage and sacred sites, traditional tribal activities, and scenery.

Proposed Action

The proposed action is to revise the Forest Plan to address the above identified needs for change to the existing Forest Plan. Alternatives to the proposed action will be developed to address the significant issues that will be identified through scoping. In response to the above needs for change, a Preliminary Draft Forest Plan has been developed. This more fully developed description of the proposed action is available for review on the Lincoln plan revision website at: https://www.fs.usda.gov/detail/lincoln/landmanagement/planning/?cid=STELPRD3814307.

Please review and provide any feedback you may have on both the needs for change identified above and on the Preliminary Draft Forest Plan found on the above website.

Responsible Official

Travis Moseley, Forest Supervisor, Lincoln National Forest

Scoping Process

This notice of intent initiates the scoping process, which guides the development of the EIS. Written comments received in response to this notice will be analyzed to complete the identification of the needs for change to the existing plan, further develop the proposed action (Preliminary Draft Forest Plan), and identify potential significant issues. Significant issues will, in turn, form the basis for developing alternatives to the proposed action.

It is important that reviewers provide their comments at such times and in such manner that they are useful to the agency's preparation of the environmental impact statement. Therefore, comments are best provided prior to the close of the comment period and should clearly articulate the reviewer's concerns and contentions. Comments received in response to this notice, including the names and addresses of those who comment, will be part of the public record. Comments submitted anonymously will be accepted and considered; however, anonymous comments will not provide the Lincoln National Forest with the ability to provide the respondent with subsequent environmental documents.

For information on when public meetings will be scheduled for refining the proposed action and identifying possible alternatives to the proposed action, refer to the Forest's website: https://www.fs.usda.gov/detail/lincoln/landmanagement/planning/?cid=STELPRD3814307.

The decision to approve the revised Forest Plan for the Lincoln National Forest will be subject to the objection process identified in 36 CFR part 219 subpart B (219.50 to 219.62). According to 36 CFR 219.53(a), those who may file an objection are individuals and entities who have submitted substantive formal comments related to plan revision during the opportunities provided for public comment during the planning process.

Applicable Planning Rule

Preparation of the revised Forest Plan for the Lincoln National Forest began with the publication of a Notice of Assessment Initiation in the Federal Register on June 25, 2015 (80 FR 36500) and was initiated under the planning procedures contained in the 2012 Planning Rule (36 CFR 219 (2012)).

Documents Available for Review

The Needs for Change documentation, the Preliminary Draft Forest Plan, the Assessment Report (Volumes 1 & 2), summaries of the public meetings and public meeting materials, and public comments are posted on the Forest's website at: https://www.fs.usda.gov/detail/lincoln/landmanagement/planning/?cid=STELPRD3814307. As necessary or appropriate, the material available on this site will be further adjusted as part of the planning process using the provisions of the 2012 Planning Rule.

Dated: May 10, 2019.
Frank R. Beum,
Acting Associate Deputy Chief, National Forest System.

[FR Doc. 2019-11279 Filed 5-29-19; 8:45 am]

BILLING CODE 3411-15-P